Title 3—

The President

Presidential Determination No. 2021-06 of May 3, 2021

Emergency Presidential Determination on Refugee Admissions for Fiscal Year 2021

Memorandum for the Secretary of State

In Executive Order 14013 of February 4, 2021 (Rebuilding and Enhancing Programs to Resettle Refugees and Planning for the Impact of Climate Change on Migration), I directed numerous actions to rebuild, expand, and improve the United States Refugee Admissions Program (USRAP). On February 12, 2021, the Department of State submitted a report to certain congressional committees and, with the Department of Homeland Security and the Department of Health and Human Services, consulted with the Congress regarding a proposal to re-allocate admissions among refugees of humanitarian concern and to increase Fiscal Year (FY) 2021 refugee admissions from 15,000 refugees to 62,500 refugees due to an unforeseen emergency refugee situation in countries around the globe since the signing of Presidential Determination 2021-02 on October 27, 2020 (Presidential Determination on Refugee Admissions for Fiscal Year 2021) (PD 2021-02).

In Presidential Determination 2021-05 of April 16, 2021 (Emergency Presidential Determination on Refugee Admissions for Fiscal Year 2021) (PD 2021-05), I changed the allocation of admissions in PD 2021-02 based on a determination that new allocations were necessary to respond to the unforeseen emergency refugee situation. Based on this change, USRAP partners are beginning travel preparations for more than 2,000 refugees who were excluded under PD 2021-02, but who can now be admitted to the United States.

In PD 2021-05, I did not change the pre-existing number of refugee admissions permitted for FY 2021, which remained at 15,000. I also stated that I would consider raising the worldwide refugee admissions ceiling before the end of FY 2021, should the pre-existing level be reached and the emergency refugee situation persist. When I signed PD 2021-05, my intent was to adjust only the allocation of admissions and to address the appropriate number of refugees in a separate determination. Upon additional briefing and a more comprehensive presentation regarding the capacity of the executive departments and agencies charged with administering USRAP to increase refugee admissions while responding to other demands, and given the ongoing unforeseen emergency refugee situation, I now determine, consistent with my Administration's prior consultation with the Congress, that raising the number of admissions permissible for FY 2021 to 62,500 is justified by grave humanitarian concerns and is otherwise in the national interest.

The number of refugee admissions authorized by this determination under section 207(b) of the Immigration and Nationality Act (8 U.S.C. 1157(b)) sends the important message that the United States remains a safe harbor for some of the most vulnerable people in the world. This number also sets a goal for USRAP and the non-governmental and international organizations with whom USRAP partners to resettle refugees. Given the gravity of the global refugee crisis, the number of authorized refugee admissions must be ambitious enough to challenge the United States Government and its partners to build their capacity to serve more refugees. In my judgment, a refugee admissions determination of 62,500 reflects these values, is justified by grave humanitarian concerns, and is otherwise in the national interest of the United States.

The FY 2021 allocations set forth in section (b) of PD 2021-05 are adjusted as follows:

| Africa | 22,000 |
| East Asia | 6,000 |
| Europe and Central Asia | 4,000 |
| Latin America and the Caribbean | 5,000 |
| Near East and South Asia | 13,000 |
| Unallocated Reserve | 12,500 |

The provisions of PD 2021-05 are retained, except to the extent superseded by this determination.

You are authorized and directed to publish this determination in the Federal Register.

THE WHITE HOUSE,

Washington, May 3, 2021

[FR Doc. 2021-09861

Filed 5-6-21; 8:45 am]

Billing code 4710-10-P